DEPARTMENT OF TRANSPORTATION

Federal Aviation Administration

14 CFR Part 21

[Docket No. FAA-2015-3031]

Proposed Primary Category Airworthiness Design Standards; AutoGyro USA, LLC (AutoGyro) Model Calidus Gyroplanes

AGENCY: Federal Aviation Administration (FAA), DOT.

ACTION: Request for comments.

SUMMARY: This notice announces the existence of and requests comments on the proposed airworthiness design standards for acceptance of the AutoGyro Model Calidus gyroplane under the regulations for primary category aircraft.

DATES: We must receive comments by September 8, 2015.

ADDRESSES: Send all comments to the Federal Aviation Administration (FAA), Rotorcraft Standards Staff, Rotorcraft Directorate (ASW-110), FAA, 10101 Hillwood Pkwy., Fort Worth, TX 76177.

FOR FURTHER INFORMATION CONTACT: Gary Roach, Aviation Safety Engineer, Regulations and Policy Group, Rotorcraft Directorate, FAA, 10101 Hillwood Pkwy., Fort Worth, Texas 76177; telephone (817) 222-5110; email gary.b.roach@faa.gov.

SUPPLEMENTARY INFORMATION: Any person may obtain a copy of this information by contacting the person named above under FOR FURTHER INFORMATION CONTACT.

Comments Invited

We invite you to submit comments on the proposed airworthiness standards to the address specified above. Commenters must identify the AutoGyro Model Calidus on all submitted correspondence. The FAA will consider all communications received on or before the closing date before issuing the final acceptance. The proposed airworthiness design standards and comments received may be inspected at the FAA, Rotorcraft Directorate, Rotorcraft Standards Staff (ASW-110), FAA, 2601 Meacham Blvd., Fort Worth, TX 76137, between the hours of 7:30 a.m. and 4 p.m. weekdays, except Federal holidays.

Background

The “primary” category for aircraft was created specifically for the simple, low performance personal aircraft. Section 21.17(f) provides a means for applicants to propose airworthiness standards for their particular primary category aircraft. The FAA procedure establishing appropriate airworthiness standards includes reviewing and possibly revising the applicant's proposal, publication of the submittal in the Federal Register for public review and comment, and addressing the comments. After all necessary revisions, the standards are published as approved FAA airworthiness standards.

Accordingly, the applicant, AutoGyro, has submitted a request to the FAA to include the following:

Proposed Airworthiness Standards for Acceptance Under the Primary Category Rule

For Aircraft Certification and the Powerplant Installation:

Section T Light Gyroplanes, of the British Civil Airworthiness Requirements, Issue 3, dated August 12, 2005.

14 CFR 27.853(a) and (c)(1) Amdt 27-37 Compartment Interior; §§ 23.735(a) through (c) Amdt 23-62 Brakes except that the reference to 23.75 is replaced with Section T75 of BCAR Section T, Issue 3; §§ 27.735(a) and (c)(1) Amdt 27-21 Brakes; §§ 27.1365(b) and (c) Amdt 27-35 Electrical Cables; and § 27.1561(a) Safety Equipment, as applicable to these aircraft.

For Engine Assembly Certification:

ASTM F2339-06 (2009), “Standard Practice for Design and Manufacture of Reciprocating Spark Ignition Engines for Light Sport Aircraft,” except paragraph A1.1.3.

For Propeller Certification:

Section T Light Gyroplanes, of the British Civil Airworthiness Requirements, Issue 3, dated August 12, 2005; ASTM F2506-10 (2009), “Standard Specification for Design and Testing of Fixed-Pitch or Ground Adjustable Light Sport Aircraft Propellers,” paragraph 5.5 Propeller Strength and Endurance and Section 6 Tests and Inspections.

Issued in Fort Worth, Texas on July 16, 2015.
Bruce E. Cain,
Acting Directorate Manager, Rotorcraft Directorate, Aircraft Certification Service.

[FR Doc. 2015-18221 Filed 7-23-15; 8:45 am]

BILLING CODE 4910-13-P